DEPARTMENT OF THE TREASURY

Internal Revenue Service

26 CFR Part 1

[TD 10009]

RIN 1545-BQ54

Advanced Manufacturing Investment Credit Rules Under Sections 48D and 50; Correction

AGENCY: Internal Revenue Service (IRS), Treasury.

ACTION: Final rule; correction.

SUMMARY: This document contains corrections to the final regulations (TD 10009), published in the Federal Register on October 23, 2024. The final regulations implement the advanced manufacturing investment credit and special 10-year credit recapture rule established by the CHIPS Act of 2022 to incentivize the manufacture of semiconductors and semiconductor manufacturing equipment within the United States.

DATES: These corrections are effective on December 23, 2024.

FOR FURTHER INFORMATION CONTACT: Lani Sinfield of the Office of Associate Chief Counsel (Passthroughs and Special Industries) at (202) 317-4137 (not a toll-free number).

SUPPLEMENTARY INFORMATION:

Background

The final regulations (TD 10009) subject to this correction sets forth amendments to the Income Tax Regulations (26 CFR part 1) under sections 48D and 50(a) of the Internal Revenue Code.

Correction of Publication

Accordingly, FR Doc. 2024-23857 (TD 10009), appearing on page 84732 in the Federal Register on Wednesday, October 23, 2024, is corrected as follows:

1. On page 84736, in the third column, in the first partial paragraph, the sixth line, remove “made” and add “make” in its place.

2. On page 84737, in the first column, in the last partial paragraph, the seventh line, remove “county” and add “country” in its place.

3. On page 84739, in the first column, in the first partial paragraph, the sixth line, remove “7805” and add “7805(a)” in its place.

4. On page 84741, in the first column, in the last partial paragraph, the fifth line from the bottom of the page, remove “III.I.” and add “III.F.” in its place.

5. On page 84741, in the second column, in the last partial paragraph, the third line, insert “the” between “to” and “operation”.

6. On page 84742, in the second column, in the first partial paragraph, the sixteenth line, insert a comma between “offices” and “administrative”.

7. On page 84743, in the second column, in the last partial paragraph, the sixth line, remove “grows wafers” and add “grow wafers” in its place.

8. On page 84745, in the third column, in the only full paragraph, the ninth line from the bottom of the paragraph, remove “§ 1.48D-2(g)” and add “§ 1.48D-2(h)” in its place.

9. On page 84746, in the third column, in the last partial paragraph, the fifth line from the bottom of the page, remove “county” and add “country” in its place.

10. On page 84749, in the third column, in the last partial paragraph, the twentieth line, insert the word “is” between “property” and “placed”.

§ 1.48D-0 [Corrected]

11. On page 84751, in the third column, under the heading “§ 1.48D-4 Advanced manufacturing facility of an eligible taxpayer.”, the seventh line, add a period after the word “general”.

§ 1.48D-2 [Corrected]

12. On page 84753, in the first column, in § 1.48D-2, the second line of paragraph (a), remove “(o)” and add “(p)” in its place.

§ 1.48D-5 [Corrected]

13. On page 84758, in the third column, in § 1.48D-5, the seventh line of paragraph (c)(1), insert the word “the” between “on” and “nature”.

Aron L. Cosby,
Federal Register Liaison, Publications and Regulations Branch, Legal Processing Division, Associate Chief Counsel, (Procedure and Administration).

[FR Doc. 2024-27427 Filed 11-22-24; 8:45 am]

BILLING CODE 4830-01-P